LEGAL SERVICES CORPORATION

Notice to LSC Grantees of Application Process for Subgranting 2017-2018 Pro Bono Innovation Fund and Technology Initiative Grant Funds

AGENCY: Legal Services Corporation.

ACTION: Notice of application dates and format for LSC Technology Initiative Grants and Pro Bono Innovation Fund subgrant applications.

SUMMARY: The Legal Services Corporation (LSC) announces the submission dates for applications for subgrants under its Technology Initiative Grants and its Pro Bono Innovation Fund grants starting after October 30, 2017. LSC is also providing information about the location of subgrant application forms and directions.

DATES: See SUPPLEMENTARY INFORMATION section for application dates.

ADDRESSES: Legal Services Corporation—Office of Compliance and Enforcement, 3333 K Street NW., Third Floor, Washington, DC 20007-3522.

FOR FURTHER INFORMATION CONTACT: Office of Compliance and Enforcement by email at subgrants@lsc.gov, or visit the LSC Web site at http://www.lsc.gov/grants-grantee-resources/grantee-guidance/how-apply-subgrant.

SUPPLEMENTARY INFORMATION: LSC revised its subgrant rule, 45 CFR part 1627, effective April 1, 2017. The revised rule requires LSC to publish, on an annual basis, “notice of the requirements concerning the format and contents of the [subgrant] application annually in the Federal Register and on its Web site.” 45 CFR 1627.4(b). This Notice and the publication of the Subgrant Application Forms on LSC's Web site satisfies § 1627.4(b)'s notice requirement for the Technology Initiative Grant and Pro Bono Innovation Fund grant programs. Only current or prospective LSC grantees may apply.

Applications for subgrants of Technology Initiative Grant and Pro Bono Innovation Fund grant funds with starting dates after October 30 must be submitted at least 45 days in advance of the subgrant's proposed effective date. 45 CFR 1627.4(b)(2). LSC grantees may subgrant up to $20,000 in LSC funds without submitting an application for prior approval. 45 CFR 1627.4(b). All subgrants of LSC funds, however, are subject to LSC's regulations, guidelines, and instructions.

Subgrant applications must be submitted at https://lscgrants.lsc.gov. Applicants may access the application under the “Subgrants” heading on their “LSC Grants” home page. Applicants may initiate an application by selecting “Initiate Subgrant Application.” Applicants must then provide the information requested in the LSC Grants data fields, located in the Subrecipient Profile, Subgrant Summary, and Subrecipient Budget screens, and upload the following documents:

• A draft Subgrant Agreement (with the required terms provided in the Technology Initiative Grants and Pro Bono Innovation Fund Subgrant Agreement Template (“Template”);

• Responses to Technology Initiative Grants and Pro Bono Innovation Fund Subgrant Inquiries;

• The subrecipient's accounting manual (or letter indicating that the subrecipient does not have one and why);

• The subrecipient's most recent audited financial statement (or letter indicating that the subrecipient does not have one and why);

• The subrecipient's most recent Form 990 filed with the Internal Revenue Service (or letter indicating that the subrecipient does not have one and why);

• The subrecipient's current fidelity bond policy (or letter indicating that the subrecipient does not have one and why);

• The subrecipient's conflict of interest policy (or letter indicating that the subrecipient does not have one and why); and

• The subrecipient's whistleblower policy (or letter indicating that the subrecipient does not have one and why).

Technology Initiative Grants and Pro Bono Innovation Fund Subgrant Agreement Template and Inquiries are available on LSC's Web site at http://www.lsc.gov/grants-grantee-resources/grantee-guidance/how-apply-subgrant. LSC encourages applicants to use the Template provided to draft their subgrant agreement(s). If the applicant does not use the Template, the proposed agreement must include, at a minimum, the substance of the provisions in the Template. LSC recommends that applicants pay careful attention to the terms included in, and instructions on, the Template. Several of the terms have been modified from previous years and new terms have been added.

Once submitted, LSC will evaluate the application and provide applicants with instructions on any needed modifications to the information, documents, or Draft Agreement provided with the application. The applicant must then upload a final and signed subgrant agreement through LSC Grants. This can be done by selecting “Upload Signed Agreement” to the right of the application “Status” under the “Subgrant” heading on an applicant's LSC Grants home page.

As required by 45 CFR 1627.4(b)(3), LSC will inform applicants of its decision to disapprove, approve, or request modifications to the subgrant no later than the subgrant's proposed effective date.

Dated: September 25, 2017.
Stefanie K. Davis,
Assistant General Counsel.

[FR Doc. 2017-20865 Filed 9-28-17; 8:45 am]

BILLING CODE 7050-01-P